Title 3—

The President

Proclamation 8888 of October 12, 2012

National School Lunch Week, 2012

By The President Of The United States Of America

A Proclamation

Our children are the key to America's success in the 21st century, and it is incumbent upon us all to ensure they have the resources they need to reach their greatest potential—including access to healthy meals at school. During National School Lunch Week, we recognize all those whose dedicated work and care make good nutrition a reality for our sons and daughters.

Our students deserve the best possible chance to live healthy, productive lives. Since the National School Lunch Program was founded over six decades ago, schools have served over 200 billion lunches that have helped generations of children achieve in the classroom and grow into our country's next generation of leaders. This school year, the program will carry that legacy forward by providing nutritious meals for tens of millions of students every day. These meals are a vital source of fruits, vegetables, and other fresh and nutritious foods for our Nation's young people. Through efforts like First Lady Michelle Obama's Let's Move! initiative, we are continuing to bring together stakeholders at every level of government, in the private sector, and throughout our communities to ensure more children have access to the healthy, affordable food they need to learn and grow.

Soon after President Harry Truman signed the National School Lunch Act in 1946, he reminded us that “nothing is more important in our national life than the welfare of our children, and proper nourishment comes first in attaining this welfare.” This week, we thank the countless individuals who make our children's well-being their highest priority, and celebrate the National School Lunch Program as a foundation for their success in the years to come.

The Congress, by joint resolution of October 9, 1962 (Public Law 87-780), as amended, has designated the week beginning on the second Sunday in October each year as “National School Lunch Week,” and has requested the President to issue a proclamation in observance of this week.

NOW, THEREFORE, I, BARACK OBAMA, President of the United States of America, do hereby proclaim the week of October 14 through October 20, 2012, as National School Lunch Week. I call upon all Americans to join the dedicated individuals who administer the National School Lunch Program in appropriate activities that support the health and well-being of our Nation's children.

IN WITNESS WHEREOF, I have hereunto set my hand this twelfth day of October, in the year of our Lord two thousand twelve, and of the Independence of the United States of America the two hundred and thirty-seventh.

[FR Doc. 2012-25742

Filed 10-16-12; 11:15 am]

Billing code 3295-F3